DEPARTMENT OF COMMERCE

National Oceanic and Atmospheric Administration

Draft Guidance for the Coastal and Estuarine Land Conservation Program

Correction

In notice document 02-26996 beginning on page 64874 in the issue of Tuesday, October 22, 2002, make the following corrections:

1. On page 64874, in the third column, the subject is corrected to read as set forth above.

2. On page 64875, in the first column, in the third and fourth lines, the web address is corrected to read as set forth as follows:

“www.ocrm.nos.noaa.gov/landconservation.html”.

3. On the same page, in the same column, in the date line, “October 7, 2002” should read, “October 17, 2002”.

[FR Doc. C2-26996 Filed 10-24-02; 8:45 am]

BILLING CODE 1505-01-D

DEPARTMENT OF ENERGY

Federal Energy Regulatory Commission

[Docket No. CP02-142-001]

Columbia Gas Transmission Corporation; Notice of Petition To Amend

October 11, 2002.

Correction

In notice document 02-26490 beginning on page 64356 in the issue of Friday, October 18, 2002, make the following correction:

On page 64356, in the first column, the docket number is corrected to read as set forth above.

[FR Doc. C2-26490 Filed 10-24-02; 8:45 am]

BILLING CODE 1505-01-D